DEPARTMENT OF JUSTICE

Antitrust Division

Notice Pursuant to The National Cooperative Research and Production Act of 1993—Naval Surface Technology & Innovation Consortium

Notice is hereby given that, on July 7, 2023, pursuant to section 6(a) of the National Cooperative Research and Production Act of 1993, 15 U.S.C. 4301 et seq. (“the Act”), the Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances. Specifically, Action Engineering LLC, Golden, CO; Arcturus UAV, Inc., Petaluma, CA; Beacon, Inc., Newington, CT; Colossal Contracting, LLC, Annapolis, MD; Colvin Run Networks, Inc., Great Falls, VA; CrowdAI, Inc., San Francisco, CA; Cybel, LLC, Bethlehem, PA; Hawk Technologies, LLC, Hancock, MI; Hexagon US Federal, Inc., Huntsville, AL; Metronome, LLC, Fairfax, VA; MPR Associates, Inc., Alexandria, VA; Premier Mechanical Products, LLC, Kansas City, KS; SMA, Inc., Irvine, CA; ThayerMahan, Inc., Groton, CT; and Watershed Security, LLC, Chesapeake, VA, have been added as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on April 7, 2023. A notice was published in the Federal Register pursuant to section 6(b) of the Act on June 13, 2023 (88 FR 38534).

Suzanne Morris,
Deputy Director Civil Enforcement Operations, Antitrust Division.

[FR Doc. 2023-20770 Filed 9-25-23; 8:45 am]

BILLING CODE P